ENVIRONMENTAL PROTECTION AGENCY

[ER-FRL-6250-5]

Environmental Impact Statements; Notice of Availability

RESPONSIBLE AGENCY: Office of Federal Activities, General Information (202) 564-7167 OR www.epa.gov/oeca/ofa. Weekly receipt of Environmental Impact Statements filed January 17, 2000 through January 21, 2000 pursuant to 40 CFR 1506.9.

Due to inclement weather in the Metropolitan Area (DC, MD and VA) the Federal Government was shutdown. The Federal Register (FR) Report which should have appeared in the January 28, 2000 FR was not published. The 45-day comment period and the 30-day wait period are still calculated from January 28, 2000.

EIS No. 200011, FINAL EIS, COE, NY, NJ, New York and New Jersey Harbor Navigation Study, Identify, Screen and Select Navigation Channel Improvements, NY and NJ, Due: February 28, 2000, Contact: Jenine Gallo (212) 264-0912.

EIS No. 200012, DRAFT EIS, FHW, WV, King Coal Highway Project Construction, from the vicinity of Williamson to the vicinity of Bluefield, COE Section 404 Permit, Mingo, McDowell Mercer, and Wyoming Counties, WV, Due: March 31, 2000, Contact: Thomas J. Smith (304) 347-5928.

EIS No. 200013, DRAFT EIS, FHW, MO, US 65 Improvements, from County Road 65-122 South to Route EE Intersection south of Buffalo, COE Section 404 Permit, Dallas County, MO, Due: March 13, 2000, Contact: Don Neumann (573) 636-7104.

EIS No. 200014, FINAL SUPPLEMENT, FTA, PR, Tren Urbano Transit Project, Updated Information for the Minillas Extension, Construction and Operation, San Juan Metropolitan Area, Funding, NPDES Permit, US Coast Guard Permit and COE Section 10 and 404 Permits, PR, Due: February 28, 2000, Contact: Mr. Alex Mc Neil (404) 562-3511.

EIS No. 200015, FINAL EIS, BLM, NM, New Mexico Standards for Public Land Health and Guidelines for Livestock Grazing Management, Implementation, NM, Due: February 28, 2000, Contact: J. W. Whitney (505) 438-7438.

EIS No. 200016, DRAFT EIS, AFS, ID, Whiskey Campo Resource Management Project, Implementation, Elmore County, ID, Due: March 13, 2000, Contact: Dave Rittenhouse (208) 373-4100.

EIS No. 200017, FINAL EIS, FHW, WA, WA-16/Union Avenue Vicinity to WA-302 Vicinity of Tacoma Improvements, Construction, Funding, Coast Guard Permit, COE Section 10 and 404 Permits, Pierce County, WA, Due: February 28, 2000, Contact: James Leonard (360) 753-9408.

EIS No. 200018, DRAFT EIS, IBR, CA, Salton Sea Restoration Project, Implementation, COE Section 404 Permit, Riverside and Imperial Counties, CA, Due: April 26, 2000, Contact: Bill Steele (702) 293-8129.

EIS No. 200019, DRAFT EIS, AFS, AK, Emerald Bay Timber Sale, Implementation, Ketchikan-Misty Fiords Ranger District, Tongass National Forest, U.S. Cost Guard Bridge Permit, NPDES Permit, and COE Section 10 and 404 Permits, Cleveland Peninsula, AK, Due: April 15, 2000, Contact: Jerry Ingersoll (907) 228-4100.

Dated: January 27, 2000.
B. Katherine Biggs,
Associate Director, Office of Federal Activities.

[FR Doc. 00-2110 Filed 1-28-00; 8:45 am]

BILLING CODE 6560-50-P